DEPARTMENT OF HEALTH AND HUMAN SERVICES

Health Resources and Services Administration

Reimbursement of Travel and Subsistence Expenses Toward Living Organ Donation Eligibility Guidelines

AGENCY: Health Resources and Services Administration (HRSA), HHS.

ACTION: Request for comments on proposed change to the Reimbursement of Travel and Subsistence Expenses Program Eligibility criteria.

SUMMARY: HRSA published the final eligibility guidelines for the Reimbursement of Travel and Subsistence Expenses Program in the Federal Register on October 5, 2007 (72 FR 57049). A subsequent amendment to the Program guidelines was published in the Federal Register on June 20, 2008 (73 FR 35143). HRSA is requesting public comments concerning recommended changes to a specific section of the reimbursement program eligibility guidelines. On page 35145, under the Qualifying Expenses Section, the first paragraph states:

For the purposes of the Reimbursement of Travel and Subsistence Expenses toward Living Organ Donation Program, qualifying expenses presently include only travel, lodging, and meals and incidental expenses incurred by the donor and/or his/her accompanying person(s) as part of:

(1) Donor evaluation, clinic visit or hospitalization,

(2) Hospitalization for the living donor surgical procedure, and/or

(3) Medical or surgical follow-up clinic visit or hospitalization within 90 days following the living donation procedure.

HRSA wishes to amend the first item of this paragraph to read: “(1) Donor evaluation (including, if applicable, clinic visits or hospitalization) and/or”. This is a technical change to clarify that the expenses referred to are all related to the donor evaluation. In addition, HRSA wishes to amend the third item of this paragraph to read: “(3) Medical or surgical follow-up, clinic visits, or hospitalization within 2 calendar years following the living donation procedure (or beyond the 2-year period if exceptional circumstances exist).” This change in the follow-up period would bring the National Living Donor Assistance Center follow-up period in line with the Organ Procurement and Transplantation Network policy requiring follow-up of living organ donors for a period of 2 years. Adding the exceptional circumstances language at the end of this item would allow reimbursement for post-surgical follow-up beyond the anticipated 2-year period in unusual circumstances.

HRSA is requesting your comments on this specific section.

DATES: Written comments must be submitted to the office in the address section below by mail or e-mail on or before April 3, 2009.

ADDRESSES: Please send all written comments to Richard Durbin, Acting Director, Division of Transplantation, Healthcare Systems Bureau, Health Resources and Services Administration, Room 12C-06, Parklawn Building, 5600 Fishers Lane, Rockville, Maryland 20857; telephone (301) 443-7577; fax (301) 594-6095; or e-mail: rdurbin@hrsa.gov.

FOR FURTHER INFORMATION CONTACT: Richard Durbin, Acting Director, Division of Transplantation, Healthcare Systems Bureau, Health Resources and Services Administration, Parklawn Building, Room 12C-06, 5600 Fishers Lane, Rockville, Maryland 20857; telephone (301) 443-7577; fax (301) 594-6095; or e-mail: rdurbin@hrsa.gov.

Dated: February 12, 2009.
Elizabeth M. Duke,
Administrator.

[FR Doc. E9-4519 Filed 3-3-09; 8:45 am]

BILLING CODE 4165-15-P